DEPARTMENT OF ENERGY

Federal Energy Regulatory Commission

[Docket No. ER01-2984-001, et al.]

Cinergy Services, Inc., et al.; Electric Rate and Corporate Regulation Filings

January 30, 2002.

Take notice that the following filings have been made with the Commission. Any comments should be submitted in accordance with Standard Paragraph E at the end of this notice.

1. Cinergy Services, Inc.

[Docket No. ER01-2984-001]

Take notice that on January 25, 2002, Cinergy Services, Inc. tendered for filing an executed Interconnection Agreement entered into by and between Cinergy Services, Inc. (Cinergy) and Duke Energy Vigo, LLC (Duke Energy Vigo), and an executed Facilities Construction Agreement by and between Cinergy and Duke Energy Vigo, both of which are dated January 25, 2002.

The Interconnection Agreement between the parties provides for the interconnection of a generating station with the transmission system of PSI Energy, Inc. (PSI), a Cinergy utility operating company, and further defines the continuing responsibilities and obligations of the parties with respect thereto. The Facilities Construction Agreement between the parties provides for the construction and installation of the interconnection facilities and the additions, modifications and upgrades to the existing transmission facilities of PSI.

Consistent with the Commission's October 26, 2001 Order in this Docket, Cinergy requests an effective date of October 31, 2001 for both the Interconnection Agreement and the Facilities Construction Agreement.

Cinergy states that it has served a copy of its filing upon the Indiana Utility Regulatory Commission, Duke Energy Vigo and any other party on the Commission's official service list in this Docket.

Comment Date: February 15, 2002.

2. Cinergy Services, Inc.

[Docket No. ER01-3022-001]

Take notice that on January 25, 2002, Cinergy Services, Inc. tendered for filing an unexecuted Interconnection Agreement by and between Cinergy Services, Inc. (Cinergy) and Sugar Creek Energy, LLC (Sugar Creek Energy).

The unexecuted Interconnection Agreement between the parties provides for the interconnection of a generating station with the transmission system of PSI Energy, Inc. (PSI), a Cinergy utility operating company, and further defines the continuing responsibilities and obligations of the parties with respect thereto.

Consistent with the Commission's October 26, 2001 Order in this Docket, Cinergy requests an effective date of September 8, 2001 for the unexecuted Interconnection Agreement.

Cinergy states that it has served a copy of its filing upon the Indiana Utility Regulatory Commission and Sugar Creek Energy.

Comment Date: February 15, 2002.

3. Astoria Generating Company, L.P., Carr Street Generating Station, L.P., Erie Boulevard Hydropower, L.P., Orion Power MidWest, L.P., Twelvepole Creek, LLC

[Docket No. ER02-113-001]

Take notice that on January 24, 2002, Astoria Generating Company, L.P., Carr Street Generating Station, L.P., Erie Boulevard Hydropower, L.P., Orion Power MidWest, L.P., and Twelvepole Creek, LLC (collectively the Orion Affiliates) submitted for filing with the Federal Energy Regulatory Commission (Commission) an amendment to their market based rate tariffs in response to the Commission's Letter Order issued December 13, 2001.

Comment Date: February 14, 2002.

4. Duke Energy Murray, LLC

[Docket No. ER02-302-001]

Take notice that on January 25, 2002, Duke Energy Murray, LLC filed a notice of status change with the Federal Energy Regulatory Commission in connection with the pending change in upstream control of Engage Energy America LLC and Frederickson Power L.P. (Frederickson) resulting from a transaction involving Duke Energy Corporation and Westcoast Energy Inc.

Copies of the filing were served upon all parties on the official service list for the above-captioned proceeding.

Comment Date: February 15, 2002.

5. Virginia Electric and Power Company

[Docket No. ER02-840-000]

Take notice that on January 25, 2002, Virginia Electric and Power Company (the Company) tendered for filing with the Federal Energy Regulatory Commission (Commission), a service agreement between the Company and Entergy-Koch Trading, LP, designated as Service Agreement No. 10, under the Company's short-form market-based rate tariff, FERC Electric Tariff, Original Volume No. 6, effective on June 15, 2001.

The Company requests an effective date of December 27, 2001, as requested by the customer.

Copies of the filing were served upon Entergy-Koch Trading, LP, the Virginia State Corporation Commission, and the North Carolina Utilities Commission.

Comment Date: February 15, 2002.

6. Commonwealth Edison Company

[Docket No. ER02-844-000]

Take notice that on January 25, 2002, Commonwealth Edison Company (ComEd) submitted for filing an executed Service Agreement for Short-Term Firm Point-to-Point Transmission Service (Service Agreement) and the associated executed Dynamic Scheduling Agreement (DSA) with Exelon Generation Company, LLC (Exelon) under ComEd's Open Access Transmission Tariff (OATT). The executed Service Agreement and associated executed DSA replace the unexecuted Service Agreement and unexecuted DSA between ComEd and Exelon which were previously filed with the Commission on December 28, 2001, designated as Docket No. ER02-633-000.

ComEd requests an effective date of January 1, 2002 for the executed Service Agreement and associated executed DSA to coincide with the effective date requested for the unexecuted Service Agreement and associated unexecuted DSA filed with the Commission on December 28, 2001, designated as Docket No. ER02-633-000. Accordingly, ComEd requests waiver of the Commission's notice requirements. A copy of this filing was served on Exelon.

Comment Date: February 15, 2002.

7. Northwestern Wind Power, LLC

[Docket No. ER02-845-000]

Take notice that on January 25, 2002, Northwestern Wind Power, LLC, tendered for filing a petition for acceptance of an initial rate schedule authorizing Northwestern Wind Power, LLC, to make wholesale sales of power at market-based rates.

Comment Date: February 15, 2002.

8. Northern Indiana Public Service Company

[Docket No. ER02-846-000]

Take notice that on January 25, 2002, Northern Indiana Public Service Company tendered for filing an executed Standard Transmission Service Agreement for Non-Firm Point-to-Point Transmission Service between Northern Indiana Public Service Company and NRG Power Marketing Inc. (NRG).

Under the Transmission Service Agreement, Northern Indiana Public Service Company will provide Non-Firm Point-to-Point Transmission Service to NRG pursuant to the Transmission Service Tariff filed by Northern Indiana Public Service Company in Docket No. OA96-47-000 and allowed to become effective by the Commission. Northern Indiana Public Service Company has requested that the Service Agreement be allowed to become effective as of January 25, 2002.

Comment Date: February 15, 2002.

9. Pacific Gas and Electric Company

[Docket No. ER02-847-000]

Take notice that on January 25, 2002, Pacific Gas and Electric Company (PG&E) tendered for filing 1998, 1999, and 2000 true-ups to rates pursuant to Contract No. 14-06-200-2948A (Contract 2948A), PG&E First Revised Rate Schedule FERC No. 79, between PG&E and the Western Area Power Administration (Western).

Pursuant to Contract 2948A and the PG&E-Western Letter Agreement dated February 7, 1992, electric energy sales are made initially at rates based on estimated costs and are then trued-up at rates based on recorded costs after the necessary data become available. The proposed rate changes establish recorded cost-based rates for true-ups of energy sales from Energy Account No. 2, made during 1998, 1999 and 2000, at rates based on estimated costs.

Copies of this filing have been served upon Western and the California Public Utilities Commission.

Comment Date: February 15, 2002.

10. Commonwealth Edison Company

[Docket No. ER02-848-000]

Take notice that on January 25, 2002, Commonwealth Edison Company (ComEd) submitted for filing an executed Service Agreement for Network Integration Transmission Service (“NSA”) and the associated executed Network Operating Agreement (NOA) between ComEd and Central Illinois Light Company (CILCO) under the terms of ComEd's Open Access Transmission Tariff (OATT). The executed NSA and associated executed NOA replace the unexecuted NSA and unexecuted NOA between ComEd and CILCO that were previously filed with the Commission in Docket No. ER02-463-000 and accepted for filing by the Commission on January 22, 2002.

ComEd requests an effective date of November 4, 2001 for the executed NSA and associated executed NOA to coincide with the effective date granted the unexecuted NSA and NOA that were previously filed with the Commission. Accordingly, ComEd requests waiver of the Commission's notice requirements. A copy of this filing was served on CILCO.

Comment Date: February 15, 2002.

11. American Transmission Systems, Inc.

[Docket No. ER02-849-000]

Take notice that on January 25, 2002, American Transmission Systems, Inc. (ATSI), filed revised specifications to its service agreements with the City of Cleveland, American Municipal Power-Ohio, Inc., and the FirstEnergy merchant group for firm Point-to-Point Transmission Service. The proposed effective date for the agreements is January 1, 2002. This filing is made pursuant to section 205 of the Federal Power Act. Copies of this filing have been served on the counterparties and the public utility commissions of Ohio and Pennsylvania.

Comment Date: February 15, 2002.

12. Midwest Independent Transmission System Operator, Inc.

[Docket No. ER02-850-000]

Take notice that on January 25, 2002, pursuant to section 205 of the Federal Power Act and section 35.16 of the Commission's regulations, 18 CFR 35.16 (2001), the Midwest Independent Transmission System Operator, Inc. (Midwest ISO) submitted for filing a Notice of Succession for certain Transmission Service Agreements and Network Transmission Service and Operating Agreements held by the Louisville Gas & Electric Company/Kentucky Utilities Company (LG&E/KU).

Copies of this filing were sent to all applicable customers under the LG&E/KU Open Access Transmission Tariff by placing a copy of the same in the United States mail, first-class postage prepaid.

Comment Date: February 15, 2002.

13. Southern Company Services, Inc.

[Docket No. ER02-851-000]

Take notice that on January 25, 2002, Southern Company Services, Inc., acting on behalf of Alabama Power Company, Georgia Power Company, Gulf Power Company, Mississippi Power Company, and Savannah Electric and Power Company (collectively referred to as Southern Companies), tendered for filing changes to Southern Companies' Open Access Transmission Tariff (FERC Electric Tariff, Fourth Revised Volume No. 5) (Tariff). The proposed changes would increase the monthly charge for transmission service on Southern Companies' bulk transmission facilities (those operated above 44/46 kV) from $1.37/kW-month to $1.63/kW-month.

This amendment to the Tariff is being made so that the Tariff will more accurately recover Southern Companies' actual revenue requirement. Southern Companies are revising the Tariff to adopt a formula rate to derive charges for transmission services on their bulk transmission facilities. In addition, the Tariff is being revised to adopt: a “stated rate” approach ($/kW-month) in lieu of the load ratio share approach to derive bulk charges for network integration transmission service; on-peak and off-peak bulk charges for daily point-to-point transmission service (in addition to on-peak and off-peak charges for non-firm point-to-point transmission service); and a cost component to recover the Commission's annual charge. An effective date of April 1, 2002 has been requested for this amendment.

Copies of the filing were served upon Southern Companies' customers under the Tariff and upon the State Public Service Commissions having jurisdiction over Southern Companies.

Comment Date: February 15, 2002.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-2814 Filed 2-5-02; 8:45 am]

BILLING CODE 6717-01-P